FEDERAL COMMUNICATIONS COMMISSION

47 CFR Part 73

[FCC 01-241, MM Docket No. 97-107, RM-9023]

FM Broadcasting Services; Pottsville and Saltillo, MS

AGENCY: Federal Communications Commission.

ACTION: Final rule; application for review, denied.

SUMMARY: In MM Docket No. 97-107, the Commission denied an application for review filed by Olvie E. Sisk, licensee of Station WCNA(FM), Channel 240C3 (95.9 MHz), Potts Camp, Mississippi. Sisk had requested review of the Report and Order, 64 FR 38,592, published July 19, 1999, which the Commission denied because it found that the staff had properly denied in the Report and Order Sisk's petition for rulemaking (RM-9023) seeking the reallotment of Channel 240C3 from Potts Camp to Saltillo, Mississippi. The staff relied upon strong Commission policy against removal of a community's sole aural broadcast transmission service absent a compelling showing that a waiver of this prohibition is warranted. Sisk's allegations of his station's financial peril fell well short of justifying such a waiver. With this action, the proceeding is terminated.

FOR FURTHER INFORMATION CONTACT: J. Bertron Withers, Jr., Mass Media Bureau, (202) 418-2180.

SUPPLEMENTARY INFORMATION: This is a summary of the Memorandum Opinion and Order, MM Docket 97-107, adopted August 23, 2001, and released August 29, 2001. The full text of this Commission decision is available for inspection and copying during normal business hours in the Commission's Reference Information Center (room CY-A257), 445 12th Street, SW, Washington, DC 20554. The complete text of this decision may be also purchased from the Commission's copy contractor, Qualex International Portals II, 445 12th Street, SW, Room CY-B402, Washington, DC, 20554.

Federal Communications Commission.
Magalie Roman Salas,
Secretary.

[FR Doc. 01-27781 Filed 11-5-01; 8:45 am]

BILLING CODE 6712-01-P